FEDERAL COMMUNICATIONS COMMISSION

47 CFR Part 22

[FCC 97-110]

Cellular Service and Other Commercial Mobile Radio Services in the Gulf of Mexico

AGENCY: Federal Communications Commission.

ACTION: Proposed rule.

SUMMARY: The Federal Communications Commission proposes changes to its cellular service rules for the Gulf of Mexico Service Area (“GMSA”) and proposes licensing and service rules for operations in the Gulf of Mexico by other commercial mobile radio service providers. The proposed rule changes should facilitate ubiquitous cellular service along the coast of the Gulf of Mexico and minimize interference disputes between terrestrial and water-based carriers.

DATES: Comments are due on or before May 15, 2000. Reply comments are due on or before May 30, 2000. Written comments by the public on the proposed information collections, are due June 26, 2000. The Office of Management and Budget (“OMB”) must submit written comments on the proposed information collection(s) on or before June 26, 2000.

ADDRESSES: All Comments and reply comments may be filed with Magalie Roman Salas, Office of the Secretary, TW-A306, Federal Communications Commission, 445 12th Street, SW., Washington, D.C. 20554.

FOR FURTHER INFORMATION CONTACT: Davida Grant, Commercial Wireless Division, Wireless Telecommunications Bureau, Federal Communications Commission, 202-418-7050, or via the Internet at dgrant@fcc.gov. For additional information concerning the information collection(s) contained in this document, contact Judy Boley at 202-418-0214, or via the Internet at jboley@fcc.gov.

SUPPLEMENTARY INFORMATION: We created the Gulf of Mexico Service Area (“GMSA”) in 1983 for the provision of cellular service in the Gulf of Mexico, and two cellular carriers, PetroCom and Bachow/Coastel, currently are providing service. The rules applying to cellular service in the Gulf have been subject to controversy and litigation, however, because of conflicts between the two Gulf licensees and land-based cellular carriers in markets adjacent to the Gulf. These controversies have focused on the water-based licensees' desire to locate their transmitters on land as well as on attempts by land-based licensees to extend their coverage into the Gulf. In addition, the Gulf carriers are subject to unique operational requirements because their transmitters are located on offshore oil and natural gas drilling platforms that move from time to time. Thus, when the platforms are relocated, the carriers must move their transmitters as well, thereby causing the coverage provided by these systems to change.

In 1992,¹ the Commission determined that the boundaries of the Gulf carriers' service areas should be defined by the actual coverage of their cell sites. This approach was the same as the approach applied to land-based cellular systems. Thus, any area where coverage is not provided would be considered unserved area that could be made available for licensing to others. The Gulf carriers appealed this decision to the Court of Appeals, arguing that a coverage-based service area definition should not be applied to them, because the platforms on which their transmitters operate move from location to location, unlike land-based sites. The Gulf carriers contended that they should be allowed to operate throughout the Gulf without regard to the location of their sites at any given time.

¹ In re Amendment of Part 22 of the Commission's Rules to Provide for Filing and Processing of Applications for Unserved Areas in the Cellular Service and to Modify Other Cellular Rules, CC Docket 90-6, Third Report and Order and Memorandum Opinion and Order on Reconsideration, 7 FCC Rcd 7183 (1992).

In 1994, in response to the Gulf carriers' concerns, the Court of Appeals vacated the Commission's service area definition insofar as it applies to the Gulf licensees. The court held that the Commission failed to take the Gulf carriers' arguments into account, and that the Commission had failed to adequately support its decision to apply the same rules to water-based carriers as it did to land-based carriers in light of the operational challenges faced by the Gulf carriers. In this proposed rulemaking, we propose a new approach to licensing in the Gulf to address the court's concerns. Specifically, we propose to address the remand issue by dividing the GMSA into two areas: a GMSA Exclusive Zone and a GMSA Coastal Zone. The Exclusive Zone would consist of the majority of the GMSA, except for coastal waters from the shoreline to approximately 12 miles offshore, which would be defined as the Coastal Zone.

In the proposed Exclusive Zone, the existing Gulf carriers would be licensed on an exclusive basis and would be permitted to move their transmitters freely and modify their coverage without having uncovered areas deemed “unserved.” Areas within the proposed Coastal Zone would be available for licensing under the Commission's unserved area auction rules. Thus, under this proposal, both Gulf-based and land-based carriers could apply to serve an unserved portion of the Coastal Zone, and could locate sites either on land or on water to do so. Areas with mutually exclusive applications would be subject to auction. We tentatively conclude that this approach will best ensure that customers in coastal areas receive seamless cellular coverage.

Filing Information

Comments and reply comments may be filed with the FCC using the Commission's Electronic Comment Filing System (“ECFS”) or by filing paper copies. See Electronic Filing of Documents in Rulemaking Proceedings, 63 FR 24121 (1998). Parties may also submit an electronic comment by Internet e-mail. Parties who choose to file by paper must file an original and four copies of each filing. If you want each Commissioner to receive a copy of your comments, you must file an original plus eleven copies. All filings must be sent to the Commission's Secretary, with Magalie Roman Salas, Office of the Secretary, TW-A306, Federal Communications Commission, 445 12th Street, SW., Washington, DC 20554.

Parties who choose to file by paper should also submit their comments on diskette. A 3.5-inch diskette formatted in an IBM compatible format using Microsoft Word for Windows or compatible software Diskettes should be submitted to: Davida Grant, Federal Communications Commission, Wireless Telecommunications Bureau, 445 12th Street, SW., Room 4C-241, Washington, DC 20554. The diskette should be accompanied by a cover letter and should be submitted in “read only” mode. The diskette should be clearly labeled with the commenter's name, proceeding (including the docket number in this case—WT Docket No. 97-112), type of pleading (comments or reply comments), date of submission, and the name of the electronic file on the diskette. The label also should include the following phrase, “Disk Copy—Not an Original.” Each diskette should contain only one party's pleadings, perferably in a single electronic file. In addition, commenters must send diskette copies to the Commission's copy contractor, International Transcription Service, Inc., 1231 20th Street, NW., Washington, DC 20036.

In addition to filing comments with the Secretary, a copy of any comments on the information collections contained herein should be submitted to Judy Boley, Federal Communications Commission, Room 1C-804, 445 12th Street, SW., Washington, DC 20554, or via the Internet to jboley@fcc.gov, and to Viriginia Huth, OMB Desk Officer, 10236 NEOB, 725 17th Street, NW., Washington, DC 20503 or via the Internet to vhuth@omb.eop.gov.

Paperwork Reduction Act

This rulemaking contains proposed information collection(s) subject to the Paperwork Reduction Act of 1995 (“PRA”). As part of its continuing effort to reduce paperwork burden, the Commission invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning: (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

OMB Control No.: 3060-XXXX.

Title: Notice of Public Information Collection.

Form No.: N/A.

Type of Review: New Collection.

Respondents: Business or other for-profit.

Number of Respondents: 30.

Estimated Time Per Response: 1.25 hour.

Frequency of Response: The frequency will vary. Respondents may apply for unserved territory as it becomes available.

Total Annual Burden: 37.50 hours.

Total Annual Cost: $7,500.

Needs and Uses: Two carriers are authorized to provide cellular service in the Gulf of Mexico. However, due to the transitory nature of their water-based sites and our interference rules, service along coastal areas in the Gulf of Mexico has been unreliable. In this rulemaking, we propose a regulatory licensing scheme to facilitate ubiquitous, reliable cellular coverage along coastal areas. As part of this scheme, we propose to bifurcate the Gulf of Mexico into a Coastal Zone and Exclusive Zone, and allow both water and land-based carriers the opportunity to provide cellular service in the Coastal Zone. Further, we propose to license any unserved areas in the Coastal Zone under our Phase II licensing rules, which require the filing of an application. The information collected pursuant to this collection request will be used to license unserved areas in the Coastal Zone for the provision of cellular service.

List of Subjects in 47 CFR Part 22

Communications common carriers.

Federal Communications Commission.
Magalie Roman Salas,
Secretary.

Rule Changes

For the reasons discussed in the preamble, the Federal Communications Commission proposes to amend 47 CFR Part 22 as follows:

PART 22—PUBLIC MOBILE SERVICES

1. The authority citation for Part 22 continues to read as follows:

Authority: Secs. 4, 303, 48 Stat. 1066, 1083, as amended; 47 U.S.C. 154 and 303.

2. Section 22.99 is amended by adding a definitions in alphabetical order:

§ 22.99 Definitions.

* * * * *

GMSA Coastal Zone. The geographical area within the Gulf of Mexico Service Area that lies between the coast line and a line defined by Great Circle arcs connecting the following points (geographical coordinates listed as North Latitude, West Longitude) consecutively in the order listed:

(1) 26°00′ 97°00′

(2) 27°30′ 97°00′

(3) 28°00′ 96°30′

(4) 28°30′ 95°30′

(5) 29°00′ 94°30′

(6) 29°30′ 93°30′

(7) 29°30′ 93°30′

(8) 29°20′ 92°30′

(9) 29°20′ 91°40′

(10) 29°00′ 91°10′

(11) 28°50′ 90°50′

(12) 29°00′ 89°40′

(13) 28°40′ 89°30′

(14) 29°00′ 88°40′

(15) 30°00′ 88°30′

(16) 30°00′ 86°00′

(17) 29°10′ 85°00′

(18) 29°30′ 84°00′

(19) 28°30′ 83°00′

(20) 28°00′ 83°15′

(21) 27°00′ 83°00′

(22) 26°00′ 82°20′

(23) 25°00′ 81°30′

(24) 24°40′ 83°00′

(25) 24°00′ 83°00′

Gulf of Mexico Service Area (GMSA). The cellular market comprising the water area of the Gulf of Mexico, bounded on the West, North and East by the coast line. Coast line, for this purpose, means the line of ordinary low water along that portion of the coast which is in direct contact with the open sea, and the line marking the seaward limit of inland waters. Inland waters include bays, historic inland waters and waters circumscribed by a fringe of islands within the immediate vicinity of the shoreline.

* * * * *

3. Section 22.131 is amended by revising paragraph (d)(2)(iv) to read as follows:

§ 22.131 Procedures for mutually exclusive applications.

* * * * *

(d) * * *

(2) * * *

(iv) Any application to expand the CGSA of a cellular system (as defined in § 22.911) into unserved area, unless the proposed expansion would be into unserved area where the licensee applying has, on the filing date, the exclusive right to expand or modify its CGSA pursuant to § 22.947 or § 22.948.

* * * * *

(1) Section 22.911 is amended by removing the note following paragraph (a)(6) and adding paragraph (c)(4) to read as follows:

§ 22.911 Cellular geographic service area.

* * * * *

(c) * * *

(4) During the term of the authorization of the first-authorized cellular system on each channel block in the GMSA, the licensee of that system and the licensee of any adjacent market cellular system on the same channel block may agree that any service area boundary extending into any portion of the GMSA other than the GMSA Coastal Zone is a part of the CGSA of the extending system.

* * * * *

5. Section 22.912 is amended by adding a sentence at the end of paragraphs (b) and (c) to read as follows:

§ 22.912 Service area boundary extensions.

* * * * *

(b) * * * Except as restricted in paragraph (d) of this section, licensees of the first authorized cellular systems in the GMSA may allow SAB extensions from the adjacent market system on the same channel block into their CGSA and/or unserved area in the GMSA, other than in the GMSA Coastal Zone, during the term of their GMSA cellular system authorizations.

(c) * * * Except as restricted in paragraph (d) of this section, licensees of the first authorized cellular systems in the GMSA that also are the applicant or licensee on the same channel block in the adjacent market may allow or propose SAB extensions from their adjacent market system into their CGSA and/or unserved area in the GMSA, other than in the GMSA Coastal Zone, during the term of their GMSA cellular system authorization.

* * * * *

6. Section 22.948 is added to read as follows:

§ 22.948 Exclusive right to expand or modify CGSA within the GMSA.

The licensee of the first authorized cellular system on each channel block in the Gulf of Mexico Service Area (GMSA) is afforded, for the full term of its authorization, an exclusive right to expand or modify its CGSA anywhere within the GMSA, other than within the GMSA Coastal Zone.

(a) Except as provided in paragraph (b) of this section, the FCC does not accept applications for authority to operate a new cellular system in any unserved area in the GMSA, other than unserved area within the GMSA Coastal Zone.

(b) During the term of its authorization, the licensee of the first authorized cellular system on each channel block in the GMSA may enter into contracts with eligible parties, allowing such parties to apply (FCC Form 600) for a new cellular system on that channel block in any area within the GMSA, other than the GMSA Coastal Zone. The FCC may grant such applications if they are in compliance with the rules in this part.

(1) The contracts must define the CGSA of the subsequent cellular system in accordance with § 22.911, including any expansion rights ceded. If not exercised, any such expansion rights terminate when the authorization of the first cellular system expires.

(2) The license term of the first authorized cellular system on each channel block in the GMSA is not extended or affected in any way by the initial authorization of any subsequent cellular systems pursuant to paragraph (b) of this section.

(3) The FCC will accept applications for assignment of authorization or consent to transfer of control of the GMSA systems.

[FR Doc. 00-10221 Filed 4-24-00; 8:45 am]

BILLING CODE 6712-01-U